DEPARTMENT OF AGRICULTURE

Food and Nutrition Service

Agency Information Collection Activities: Proposed Collection; Comment Request: Direct Verification Pilot Study

AGENCY: Food and Nutrition Service, USDA.

ACTION: Notice.

SUMMARY: In accordance with the Paperwork Reduction Act of 1995, this notice invites the general public and other public agencies to comment on this proposed information collection for purposes of the National School Lunch Program's Direct Verification Pilot Study.

DATES: Written comments on this notice must be received on or before July 9, 2007.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including use of appropriate automated, electronic, mechanical, or other technological collection techniques or other forms of information technology.

Comments may be sent to: Steven Carlson, Acting Director, Office of Analysis, Nutrition and Evaluation, Food and Nutrition Service, U.S. Department of Agriculture, 3101 Park Center Drive, Alexandria, VA 22302. Comments may also be submitted via fax to the attention of Steven Carlson at (703) 305-2576 or via e-mail to Steven.Carl son@fns.usda.gov.

All written comments will be open for public inspection at the office of the Food and Nutrition Service during regular business hours (8:30 a.m. to 5 p.m., Monday through Friday) at 3101 Park Center Drive, Alexandria, Virginia 22302, Room 1014.

All responses to this notice will be summarized and included in the request for OMB approval. All comments will be also become a matter of public record.

FOR FURTHER INFORMATION CONTACT: Requests for additional information or copies of this information collection should be directed to Steven Carlson (703) 305-2017.

SUPPLEMENTARY INFORMATION: Title: Direct Verification Evaluation Study.

OMB Number: Not yet assigned.

Form Number: “N/A”.

Expiration Date: To be determined.

Type of Request: New collection of information.

Abstract: The Child Nutrition and WIC Reauthorization Act of 2004 (Pub. L. 108-265) expanded authorization for local education agencies (LEAs) to directly verify eligibility for the National School Lunch Program (NSLP) without contacting households, using data from other means-tested programs such as the Food Stamp Program (FSP), Temporary Assistance to Needy Families (TANF), Food Distribution Program on Indian Reservations (FDPIR), Medicaid, and the State Children's Health Insurance Program (SCHIP). Direct verification is intended to reduce burden on households and LEAs, improve program operations, and reduce the number of children losing NSLP benefits due to household non-response to verification requests.

In an effort to understand the methods of direct verification and their effectiveness, the Direct Verification Pilot Study will systematically collect data from eight States. Currently, there is limited information on the feasibility and effectiveness of direct verification. The information to be collected is necessary to understand and assess the effectiveness of direct verification; compare different implementation methods; and inform States about best practices and cost savings.

Respondents: State Child Nutrition Agency officials, State Medicaid Agency officials, and Local Education Agency school food service directors.

Estimate of Burden: State Child Nutrition Agency Initial Interview: Public burden for respondents of the State Child Nutrition Agency initial interview is estimated at 210 minutes (3.5 hours) for 8 respondents for one response each.

State Child Nutrition Agency Follow-up Interview: Public burden for respondents of the State Child Nutrition Agency follow-up interview is estimated at 150 minutes (2.5 hours) for 8 respondents for one response each.

State Medicaid Agency Interview: Public burden for respondents of the State Medicaid Agency Interview is estimated at 75 minutes (1.25 hours) for 8 respondents for one response each.

State Medicaid Agency Follow-up Interview: Public burden for respondents of the State Medicaid Agency follow-up interview is estimated at 75 minutes (1.25 hours) for 8 respondents for one response each.

Local Education Agency Administrative Data Collection: Public burden for respondents of the Local Education Agency administrative data collection is estimated at 30 minutes (0.5 hours) for 240 respondents for one response each.

Local Education Agency Survey: Public burden for respondents of the LEA survey is estimated at 20 minutes (0.33 hours) for 240 respondents for one response each.

Local Education Agency Interview: Public burden for respondents of the LEA Agency Interview is estimated at 60 minutes (1 hour) for 40 respondents for one response each.

Description | No. of respondents | No. of responses per respondent | Hours per response | Total hours
State Child Nutrition Agency—Initial Interview | 8 | 1 | 3,500 | 28.00
State Child Nutrition Agency—Follow-up Interview | 8 | 1 | 2,500 | 20.00
State Medicaid Agency Interview | 8 | 1 | 1,250 | 10.00
State Medicaid Agency Follow-up Interview | 8 | 1 | 1,250 | 10.00
Local Ed. Agency Administrative Data Collection | 240 | 1 | 0.500 | 120.00
Local Education Agency Survey | 240 | 1 | 0.333 | 80.00
Local Education Agency Survey Interview | 40 | 1 | 1.000 | 40.00
Total | 256 |  |  | 308.00

Estimated Number of Respondents: 256.

Estimated Number of Responses per Respondent: 2.2 (average).

Estimated Total Annual Responses: 552.

Estimated Time per Response: 0.56.

Estimated Total Annual Burden on Respondents: 308 hours.

Dated: April 27, 2007.
Nancy Mont Johner,
Acting Administrator, Food and Nutrition Service.

[FR Doc. 07-2279 Filed 5-7-07; 8:45 am]

BILLING CODE 3410-30-M